NUCLEAR REGULATORY COMMISSION

[Docket No. 030-28641]

Environmental Assessment and Finding of No Significant Impact

AGENCY: Nuclear Regulatory Commission.

ACTION: Notice of environmental assessment and finding of no significant impact related to license amendment to the Department of the Air Force Master Materials License No. 42-23539-01AF, Department of the Air Force, USAF Radioisotope Committee, HQ AFMOA/SGPR, 8901 18th Street, Brooks AFB, Texas, 78235-5217.

SUMMARY: The U.S. Nuclear Regulatory Commission (NRC) is considering the issuance of a license amendment to the Department of the Air Force Master Materials License No. 42-23539-01AF to authorize decommissioning of its Site OT-10 training facility at Kirtland AFB and has prepared an environmental assessment in support of this action. Based upon the environmental assessment, the NRC has concluded that a finding of no significant impact is appropriate, and, therefore an Environmental Impact Statement is unnecessary.

FOR FURTHER INFORMATION CONTACT: Rachel S. Browder, Division of Nuclear Materials Safety, U.S. Nuclear Regulatory Commission, Region IV, 611 Ryan Plaza Drive, Suite 400, Arlington, Texas, 76011; telephone (817) 276-6552 or email rsb3@nrc.gov.

SUPPLEMENTARY INFORMATION:

Finding of No Significant Impact

Pursuant to 10 CFR part 51, NRC has prepared an environmental assessment related to a license amendment to Materials License 42-23539-01AF, authorizing decommissioning of the Site OT-10 at Kirtland AFB. On the basis of this environmental assessment, the NRC has concluded that this licensing action would not have any significant adverse effect on the quality of the human environment, and therefore, an Environmental Impact Statement is not required.

Environmental Assessment

1.0 Introduction

The U.S. Nuclear Regulatory Commission (NRC) is considering the U.S. Air Force's (USAF's) request for approval of the Kirtland Air Force Base (AFB) Decommissioning Plan (DP), located in Albuquerque, New Mexico. The licensee requested that four former Defense Nuclear Weapons School (DNWS) Radiation Training Sites at Kirtland AFB's be released for unrestricted use. The four training sites were identified for remediation under the USAF's Installation Restoration Program as Site OT-10. The purpose of this environmental assessment (EA) is to assess the environmental consequences of this license amendment request.

1.1 Background

The DNWS Radiation Training Sites are located in the north central part of Kirtland AFB. From 1961 to 1990, these sites were used to train radiological response personnel to detect contamination generated during simulated nuclear weapons accidents. Known quantities of Brazilian thorium oxide sludge were applied and tilled into site soils to simulate dispersed plutonium. The training sites are owned by the U.S. Government and regulated by the NRC under the USAF Master Materials License No. 42-23539-01AF. Four inactive training sites (TS5, TS6, TS7 and TS8) comprise Kirtland AFB's Installation Restoration Program Site OT-10 and are being decommissioned to meet the NRC requirements for unrestricted use, as defined in NRC regulations.

The OT-10 training sites consist of approximately 43 acres, in which approximately 9.2 acres (3.7 hectares) were affected with elevated thorium concentrations at the time of the most recent investigation.

The licensee submitted the DP in July 2000. A revised August 2002 DP was transmitted by cover letter dated November 19, 2002, with the final site-specific derived concentration guideline levels (DCGLs) submitted on October 2, 2002. In accordance with 10 CFR 40.42, the DP describes the site conditions, the planned decommissioning activities, radiation safety program, planned final radiation survey, and the cost estimate for decommissioning. Decommissioning would occur for approximately 1½ years, tentatively from January 2003, and is expected to continue throughout 2003. Submittal of the final status survey report to the NRC is planned for early 2004.

The radioactive contaminated soil would be removed in accordance with the DP and the licensee's standard operating procedures. The licensee has committed to excavating contaminated soil, vegetation, and debris and transferring them directly to intermodal containers, sampling and analyzing the excavated materials, manifesting the waste, and transporting the waste containers to a licensed disposal facility. The radioactive material would be packaged, handled and stored according to the appropriate health and safety procedures. Packaging contaminated soil would conform to the Department of Transportation (DOT) regulations and the disposal site requirements. The USAF would transfer the contaminated soil in intermodal containers by truck to West Control Specialist (WCS) in Andrews County, Texas, or in intermodal containers by rail or truck to Envirocare of Utah.

1.2 Purpose and Need for Proposed Action

The purpose of the proposed action is to reduce residual contamination at the site for unrestricted use and removal of the OT-10 training site from the license. NRC is fulfilling its responsibilities under the Atomic Energy Act to make a decision on a proposed license amendment for decommissioning that ensures protection of the public health and safety and environment.

2.0 Alternatives, Including the Proposed Action

2.1 Proposed Action

The proposed action is to decontaminate and remediate the OT-10 training sites to release for unrestricted use as delineated in 10 CFR part 20, subpart E, that being 25 mrem/year total effective dose equivalent (TEDE) to the critical group (i.e., resident farmer scenario).

The ultimate goal of the decommissioning is to release the OT-10 training sites from the USAF Master Materials License. The general decommissioning would result in the excavation of the source material from the OT-10 training sites to meet the unrestricted use criteria. The excavated material would be transported to a licensed low-level radioactive waste (LLRW) facility (e.g., Envirocare of Utah) for disposal. The unimportant quantities of source material, as defined in 10 CFR 40.13, would be shipped to a burial facility (e.g., West Control Specialist (WCS) facility in Andrews, TX). Following any necessary remediation, the licensee would perform final status surveys in the area in accordance with the NRC approved DP.

2.2 Alternatives to the Proposed Action

There are no alternatives to the proposed actions besides taking no action.

2.2.1 No Action

NRC considered the no-action alternative relative to USAF's request for approval of the DP. The no-action alternative would mean that NRC would not approve the DP and, therefore, would not be able to amend the license. The no-action alternative is not acceptable because it would conflict with NRC's requirement in 10 CFR 40.42, “Expiration and termination of Licenses and Decommissioning of Sites and Separate Buildings or Outdoor Areas,” of timely remediation at facilities or outdoor areas that have ceased NRC licensed operations. Therefore, the no-action alternative is not considered to be reasonable and is not analyzed further in this EA.

3.0 Affected Environment

Eight training sites were established in November 1961 in the north-central part of Kirtland AFB, which is located in Albuquerque, New Mexico (USAF, 2001b). Training activities were discontinued at four of the training sites in 1990. These four training sites, designated as OT-10 under the USAF's Installation and Restoration Program, are located south of Pennsylvania Avenue, on Kirtland AFB. TS8 was also used as a storage site and has two storage bunkers located within its fenced area. In addition, TS6 contains solid waste management unit (SWMU) SS-69, a 50-ft by 50-ft fenced area previously used to store drums of thorium oxide sludge, contaminated soil and waste fuels. SWMU SS-69 is managed as a separate corrective action unit under Kirtland AFB's Resource Conservation and Recovery Act (RCRA) part B permit.

The following sections provide detailed information on the specific environmental resources and subject areas relevant to the nature of the proposed action.

3.1 Physiography, Geology and Soils

Kirtland AFB is located on a high, semiarid piedmont alluvial plain and adjacent foothills, about 5 miles east of the Rio Grande. The alluvial plain is cut by the east-west trending Tijeras Arroyo, which drains into the Rio Grande. The western portion of Kirtland AFB lies within the Albuquerque-Belen Basin. The Albuquerque-Belen structural basin contains the through-flowing Rio Grande and lies within a series of grabens and structural basins called the Rio Grande Rift. The deposits consist of interbedded gravel, sand silt, and clay, the bulk of which are referred to as the Santa Fe Group. The soils types consist of Tome very fine sandy loam, Gila fine sandy loam, Bluepoint-Kokan association, Wink fine sandy loam and Tijeras gravelly fine sandy loam.

The Santa Fe Group contains sediments which were deposited as an alluvial fan, playa and fluvial deposits that filled the subsiding basin. The thicknesses of most basin-fill deposits are greater than 3,000 feet, although the thickness varies considerably because of faulting in the basin. The Santa Fe Group contains beds of unconsolidated to loosely consolidated sediment and interbedded volcanic rock. The materials range in size from boulders to clay.

3.2 Meteorology, Climatology, and Air Quality

The climate at Kirtland AFB is typical of a high-desert plateau, with low precipitation, wide temperature extremes and typically, clear sunny days. The mean annual precipitation is about 8.4 inches and the mean annual snowfall is 1.25 inches. Summer rains typically account for nearly half of the annual moisture, in the form of brief but heavy local thunderstorms. The prevailing wind direction from May through October is south to southeast, and the mean wind speed is about 8 knots. From November through April, the prevailing wind direction is north to northwest, and the mean wind speed is 7 knots.

3.3 Water Resources

The four training sites are located in the Hydrogeologic Region of Kirtland AFB. The estimated hydrologic conductivity in this unit ranges from less than 0.3 ft/day to greater than 30 ft/day. The depth to groundwater is between 300 to 500 ft. Groundwater is thought to be unconfined in the upper portion of the aquifer, but this may not be true in all areas. The uppermost aquifer occurs within the Santa Fe Group.

A shallow saturation zone above the regional aquifer, approximately 200 to 250 ft below ground surface has been identified in the Hydrogeologic Region. This zone is located adjacent to and northwest of the Kirtland AFB landfill. It is associated with either a system of multiple perched aquifers or a groundwater mound. The extent of a shallower saturation zone has not been defined and it is unknown if it exists in the vicinity of the four training sites.

3.4 Ecology

The four former training sites that are to be decommissioned are in the Plains and Great Basin Grasslands. These grasslands are generally flat and open, lying from 4,900 to 7,500 feet in elevation. Common vegetation includes needle-and-thread, galleta grass, sand dropseed, grama grasses, Indian ricegrass, fourwing saltbush, broom snakeweed, sagebrush, winter fat, and yucca.

According to the Kirtland AFB Integrated Natural Resource Management Plan, there are no known federally listed threatened or endangered species on the AFB. The western burrowing owl (Athene cunicularia hypugaea) is a federal species of concern that has been observed on Kirtland AFB. This bird nests in prairie dog towns. The loggerhead shrike (Lanius ludovicianus) is also a federal species of concern. Loggerhead shrikes occupy grassland, pinyon-juniper, and riparian habitats. This species has been observed on the AFB and is found in the area throughout the year.

The gray vireo (Vireo vicinior) is the only state-listed threatened species known to be on the AFB. Gray vireos have been observed in ungrazed juniper woodland at the base of the western foothills of the Manzanita Mountains at elevations between 5,900 and 6,600 feet. This area is located in the easternmost portion of the AFB. Site OT-10 would not present attractive habitat to the gray vireo because of its distance from vireo nesting areas.

Critical habitats are those areas considered essential for maintaining or restoring threatened or endangered species populations. Neither the New Mexico Department of Game and Fish nor the U.S. Fish and Wildlife Service has designated or identified any critical habitat on the AFB.

3.5 Noise

The land use for the training sites and surrounding areas is classified as public or institutional and noise generated by the proposed decommissioning would not affect residents. Noise is quantified by decibels (dB), weighted by a day-night average sound level (DNL). A DNL of 65 dB is often utilized in planning and represents a compromise between community impact and the need for aviation and industrial activities. Areas exposed to DNL above 65 dB are generally not considered suitable for residential use. The DNL in and around the runways at Kirtland AFB typically exceeds 65 dB. Therefore, the immediate areas surrounding the base runways, including the proposed decommissioning area, are not classified for residential use.

Existing potential noise sources at Kirtland AFB are aircraft, firing ranges, explosive testing, and motor vehicles. An assessment of aircraft noise, including Kirtland aircraft operations, was performed at the Albuquerque International Sunport. The noise baseline attributed to aircraft noise in the proposed OT-10 decommissioning area is 65-70 dB.

Firing ranges and weapons training ranges contribute to moderate, localized noise impacts at Kirtland AFB. Harmful noise levels; that is, those exceeding 140 dB, from weapons testing activities remain within the boundaries/buffer zone of the Kirtland AFB. However, explosive detonations with noise levels of this magnitude are limited to 6-10 tests per year.

Off-road vehicle noise sources, including military transport and military weapons vehicles, are the primary sources of noise from the training and withdraw areas at Kirtland AFB. The military vehicles operate well below speeds of street traffic and measurements have shown that the military vehicles are up to 10 dB noisier than heavy trucks.

Noise generated by motor vehicles is more prevalent in congested areas of Kirtland AFB. Motor vehicle noise was evaluated in a 1995 Kirtland AFB study in a 24-hour traffic count at Gibson Gate and resulted in 71 dB, averaged over a 24-hour period.

Noise impact analyses conducted for the current activities at the Kirtland AFB concluded that there are no adverse impacts to people or wildlife. Military training activities at the AFB are conducted in remote areas, buffered by land, and are restricted to authorized personnel.

3.6 Historical and Cultural Resources

The area directly surrounding the proposed project area was surveyed for cultural resources and one historic site was located. This site would not be disturbed by the proposed action. No other historic properties have been located surrounding the project area.

3.7 Summary of Radiological Conditions

The four training sites which have been discontinued from use and have been identified by the USAF for decommissioning, were used to train U.S. Department of Defense (DOD), U.S. Department of Energy (DOE), Federal Emergency Management Agency (FEMA), and other federal and state personnel in the detection of dispersed contamination resulting from simulated nuclear weapons accidents. Known quantities of Brazilian thorium oxide sludge were applied and tilled into site soils to simulate dispersed radiological contamination. The thorium oxide sludge served as a low hazard analog for plutonium. A total estimated inventory of approximately 602 kilograms (kg) of thorium-232 was applied at the inactive sites. The estimated thorium-232 inventory, by site, is presented in the following table.

Training site | Approximate area of site in acres (hectares) | Approximate area contaminated in acres (hectares) | Estimated thorium-232 (kg)
TS5 | 13 (5.26) | 1.7 (0.687) | 215
TS6 | 19 (7.69) | 6.7 (2.71) | 307
TS7 | 8 (3.23) | 0.6 (0.24) | 36
TS8 | 2 (0.81) | 0.4 (0.16) | 44

USAF had characterized the OT-10 training sites during four investigations between 1988 and 2001. The first investigation was a limited site survey conducted between December 1985 and January 1990. The first extensive scan investigation was performed between October 1994 and May 1995, which included surface gamma surveys and soil sampling to delineate the general extent of the contamination. The most recent investigation was conducted in 1996 and 1998 and included an assessment of radionuclides and chemicals in the background soil and contaminated soil in the training sites, geophysical surveys of the sites, a health physics assessment and radionuclide grain size analysis. During the 2001 survey, the licensee selected a non-impacted background area and performed extensive analyses for background data. Additionally, the licensee performed building surveys of the two bunkers located in TS8.

The quantities and concentrations of thorium-232 contaminated soil above background, at the four training sites are summarized in the following table. The data was taken from the results of the 1994 to 1995 investigation.

Training site | Soil contaminated (yd³) | Avg depth of contamination (in) | Avg Th-232 concentration (pCi/g) | Range of Th-232 concentration (pCi/g)
TS5 | 5,637 | 16 | 67.9 | 2.2-421.6
TS6 | 15,599 | 16 | 100.8 | 2.8-683.4
TS7 | 60 | 16 | 55.4 | 2.3-466
TS8 | 6,223 | 16 | 76.4 | 2.1-1,047.9

Approximately 9.2 acres (3.7 hectares) of the 43.2 acre (17.48 hectares) site are impacted with Brazilian thorium oxide sludge. The contaminants of potential concern associated with thorium oxide sludge include thorium-232 and its decay progeny and to a lesser extent, uranium-238 and its decay progeny. The extent of contamination is limited to the immediate vicinity of the training sites and to a maximum depth of 5 feet (1.524 meters) below ground surface. The vertical extent of ground contamination is typically 1-2 feet ( 0.61 meters) below ground surface. An estimated 27,500 cubic yards yd³ (21,025 m³) are radiologically contaminated.

The licensee considered five environmental pathways for the determination of the DCGL based on the conceptual modeling for Kirtland AFB. These five pathways include: external radiation, inhalation of particulates and radon, ingestion of soil and plant foods. There are no indications of contamination migration into surface water drainages or groundwater.

3.7.1 Radiological Status of Structures and Equipment

The DP outlines procedures for decommissioning Buildings 28005 and 28010 at training site TS8. The contamination on the interior surfaces of these storage bunkers exceeds the limits established in 10 CFR 20.1402, for the radiological criteria for unrestricted use for building surfaces. The interior surfaces of the bunkers would be cleaned and tested to determine if the remaining contamination level is acceptable. Demolition and disposal of these buildings would be performed if the contamination cannot be removed. Additionally, the licensee has established action levels that would ensure effluent releases generated during decommissioning activities, such as scabbling or demolition, are below the levels allowed by 10 CFR part 20. The NRC would require the USAF to comply with the regulations established in 10 CFR part 20, to ensure the doses would be bounded by 25 mrem.

3.7.2 Radiological Status of Surface and Subsurface Soils

The licensee performed analysis of collected soil samples, scanning measurements and used historical information to classify soil survey units. The licensee calculated concentration guidelines for surface contamination of soils in the impacted areas of the training sites using RESRAD code, Version 6.1. The DCGLs would define the maximum amount of residual contamination in soils that would satisfy the NRC's regulations in 10 CFR part 20, subpart E, “Radiological Criteria for License Termination.”

4.0 Environmental Impacts

There are limited potential short-term environmental impacts associated with the proposed decommissioning activities. The following sections discuss possible impacts on the environment resulting from approval of the DP.

4.1 Non-Radiological Impacts

Completion of the decommissioning activities would allow for unrestricted use of the site. The proposed decommissioning action would have a positive environmental impact on the area since low-level radioactive contamination would be removed from the soil above the aquifer.

4.1.1 Land Use and Socioeconomic Impacts

This action would not have an adverse impact on future land use. Kirtland AFB has used the training sites since they were established in 1961. Remediation activities would provide a long-term positive impact to local socioeconomic conditions. Currently, land areas at Site OT-10 cannot be used for activities other than radiological training because dose rates associated with contamination there can exceed 25 mrem/year. Removal of radiologically contaminated materials would free the sites for recreational, residential, and/or industrial use. In addition, removal of Site OT-10 from administrative controls would release economic resources for use elsewhere.

4.1.2 Air Quality

There are no expected adverse impacts to air quality as a result of planned decommissioning activities. There would be a slight increase in dust emissions during the removal of the contaminated soil; however, there is little likelihood that airborne radioactive material would be a problem on the site during any operation conducted for the remediation. USAF would minimize the potential for airborne effluent releases by using light water spray to suppress the dust during activities that could generate significant quantities of dust. Activities that could generate significant quantities of dust include the excavation of the soil, processing and packaging of the remediated soil into the intermodal containers. Heavily traveled, clean areas would also be sprayed lightly.

4.1.3 Water Resources

This action would not have an adverse impact on water resources. The Kirtland AFB OT-10 training sites are not located in a flood plain of any streams or rivers. There are no wetlands located in the project area. There would be no water bodies diverted in order to remediate the training sites. Accumulating rainwater in affected areas would be dammed, mixed with contaminated soils, and/or left to evaporate. Only small quantities of water would be used for dust suppression.

4.1.4 Ecological Resources

No long-term impacts to ecological resources are expected. However, short term impacts to flora and fauna would occur. The excavated areas would be graded to match pre-decommissioning topography and replaced with natural vegetation to blend with the landscape. The shrubs and grasses removed from radiologically impacted land areas would be replaced at the end of the project. Burrowing animals would likely leave the site during decommissioning activities and return when site vegetation has reestablished.

Kirtland AFB consulted with state and federal caretakers of natural heritage information. The licensee reviewed the Kirtland AFB Integrated Natural Resources Management Plan and Threatened and Endangered Species Survey of Kirtland AFB, New Mexico. According to the Kirtland AFB Integrated Natural Resource Management Plan, there are no known federally listed threatened or endangered species on the AFB. The New Mexico Natural Heritage Program (NMNHP) and the U.S. Fish and Wildlife Service (USFWS) were specifically requested to search their records for information on threatened or endangered species in the geographic areas where the decommissioning activities would occur; that is, Bernalillo County, Township 9 North, Range 4 East, Sections 7, 8, 9, 16, 17, and 18. The NMNHP and the USFWS determined that the proposed decommissioning activities would have no effect on federally listed endangered or threatened species.

The western burrowing owl (Athene cunicularia hypugaea) is a federal species of concern that has been observed on Kirtland AFB. Kirtland AFB personnel would survey the OT-10 sites immediately prior to decommissioning activities. If encountered, burrowing owls would be relocated, as documented in the DP.

4.1.5 Noise Impacts

Because noise levels are expected to exceed regulatory limits, site contractors would be required to apply hearing protection measures to protect workers. The storage bunkers which may be demolished, would be performed using a backhoe equipped with shears and/or jackhammer. According to the study at the University of Washington, these activities have a mean 1-minute noise level of 86.1 dB. The noise generated from the decommissioning activities result from excavating equipment (front-end loader, dozer, and backhoe), a crane, water trucks, and light and heavy truck traffic. Soil in hot spots would be excavated from the surface to an estimated depth of 1 to 2 feet below the ground surface, using a backhoe. Soil in areas of dispersed contamination would be removed using a dozer. Front-end loaders or backhoes would transfer the contaminated soil, surface debris, and vegetation into steel intermodal containers. A crane would transfer the intermodal containers to transport trucks. All construction activities would occur during daytime hours. According to a study conducted by the University of Washington, the average noise generated at construction sites during “site preparation” is 82.7 affective decibels (dBA). Site preparation (site grading, debris and vegetation removal) noise levels are assumed comparable to the activities associated with the proposed decommissioning. In addition, the U.S. Army Corps of Engineers (USACE) set a noise exposure limit for construction sites of 85 dBA, which is consistent with National Institute for Occupational Safety and Health and U.S. Occupational Safety and Health Administration (OSHA) limits (90 dBA, 29 CFR 1910.95).

4.1.6 Historical and Cultural Resources Impact

The Site OT-10 decommissioning activities pose no long or short-term impacts to cultural/historical resources. After surveying for cultural resources, one historic site was located. However, this site would not be disturbed by the proposed action. No other historic properties have been located surrounding the project area. Therefore, the proposed project would have no adverse effect to historic properties or cultural resources. If cultural resources, including Indian artifacts, are found within the project area during decommissioning, work would discontinue and Kirtland AFB personnel would follow procedures outlined in the Kirtland AFB Cultural Resource Management Plan. By letter dated, April 9, 2002, the New Mexico State Historic Preservation Officer stated that this project would have a no adverse effect to historic properties.

4.1.7 Visual Resources

Only short-term impacts to site aesthetics would occur. Construction equipment would obstruct views. However, there are no homes near the training sites which would be impacted. The shrubs and grasses removed from radiologically impacted land areas would be replaced at the end of the project. In addition, removal of debris and fences and potentially the Bunkers 28005 and 28010 at training site TS8, would improve site aesthetics.

4.1.8 Transportation

It is estimated there would be 1370 intermodal containers of contaminated soil and debris shipped offsite. Each truck would carry one intermodal container loaded with approximately 19 cubic yards of waste. It is estimated that 10 to 12 trucks will leave the base per day, 5 days per week for 7 to 8 months. There would be approximately 685 shipments by truck and/or rail to Envirocare of Utah in Clive, Utah, and 685 shipments by truck to Waste Control Specialists in Andrews County, Texas. Containers shipped to Envirocare will travel west on Gibson Boulevard to either Interstate 25 (truck shipments) or rail siding at 100 Woodward Road (rail shipments). If rail transport is utilized, the intermodal containers would be loaded onto six-position railcars with approximately 115 railcars utilized to transport the intermodals. Containers destined for WCS will travel north on Eubank Boulevard then west on Interstate 40 and south on State Highway 285.

The addition of 10 to 12 trucks to a documented traffic volume on Gibson Boulevard of 27,000 to 45,000 vehicles per day poses a negligible impact to traffic volume (TransCore, 2001). Ten to 12 trucks add less than 0.03 to 0.04 percent to the daily vehicle load.

Under normal operating conditions there is no expected dose to vehicle operators and members of the public, since the wastes are of low activity and would be shipped in U.S. DOT-compliant, strong-tight containers. The only radiological risks associated with the transport of the wastes would involve the cleanup of any spilled material. In the unlikely event that a spill were to occur during transport, radiological controls would most likely be implemented during the cleanup of the spilled waste material. Therefore, the risks associated with the transport of the waste material is minimal.

4.1.9 Occupational Health Impacts

Short and long-term impacts to human health, in terms of industrial hygiene, are possible. A Site-Specific Health and Safety Plan (HSP) that addresses known and reasonably anticipated health and safety hazards would be provided to site workers (USAF, 2001a). The HSP is intended to provide enough information to site personnel to prevent and minimize personal injuries, illnesses, and physical damage to equipment, supplies, and property. The HSP contains a code of safe practices for oversight activities on this project. Contractors performing heavy equipment operations would be required to submit activity hazard analyses covering work means and methods and the anticipated hazards and controls.

4.2 Radiological Impacts

Occupational doses to decommissioning workers are expected to be low and well within the limits of 10 CFR part 20. No radiation exposure to any member of the public is expected, and public exposure would therefore also be less than the applicable public exposure limits of 10 CFR part 20. In addition, the licensee would install a security fence around each training site to control access and prevent unauthorized, untrained or unprotected personnel from entering the site. Therefore, the environmental impacts from the proposed action are expected to be small.

Short and long-term impacts to human health due to radiological exposure are not expected. These include the potential release to the environment of airborne effluents, which may contain low-levels of radioactive contamination during certain activities such as excavation, packaging and waste transportation. NRC regulation 10 CFR part 20 specifies the maximum amounts of radioactive materials that a licensee can release from a site in the form of either airborne or liquid effluents. The licensee has described in the DP, the controls established when these activities are being conducted. The controls include the use of light water spray to control the emissions of dust and work area particulate sampling. Site controls would be implemented to prevent unauthorized, untrained, or unprotected personnel from entering the site, to limit the spread of contamination, and to reduce the radiation exposures to safe ALARA levels. A radiation safety program would be implemented to protect site workers.

The licensee performed analysis of collected soil samples, scanning measurements and used historical information to classify soil survey units. The licensee calculated concentration guidelines for surface contamination of soils in the impacted areas of the training sites using RESRAD code, version 6.1. The DCGLs would define the maximum amount of residual contamination in soils that would satisfy the NRC's regulations in 10 CFR part 20, subpart E, “Radiological Criteria for License Termination.” The NRC would not approve the DP unless it met the 25 mrem for unrestricted release criteria and the doses would be bounded by 25 mrem.

Additionally, the interior surfaces of the bunkers would be cleaned and tested to determine if the remaining contamination level is acceptable. Demolition and disposal of these buildings would be performed if the contamination cannot be removed. Additionally, the licensee has established action levels that would ensure effluent releases generated during decommissioning activities, such as scabbling or demolition, are below the levels allowed by 10 CFR part 20. The NRC would require the USAF to comply with the regulations established in 10 CFR part 20, to ensure the doses would be bounded by 25 mrem.

4.3 Cumulative Impacts

The NRC has evaluated whether cumulative environmental impacts could result from an incremental impact of the proposed action when added to other past, present, or reasonably foreseeable future actions in the area. The proposed NRC approval of the DP, when combined with known effects on resource areas at the site, are not anticipated to result in any cumulative impacts at the site.

5.0 Monitoring

The licensee has described in the DP the controls established when activities are being conducted which may have the potential of releasing airborne effluents to the environment. The USAF would implement an environmental air monitoring program. Daily air monitoring would be performed to quantify the amount of alpha radiation being generated by invasive (e.g., clearing, grubbing, excavating and loading) decommissioning activities. The controls established include the use of ambient air and exposure monitoring and monitoring of personnel. The NRC would require the USAF to comply with the regulations established in 10 CFR part 20, which specifies the maximum amount of radiological materials that a licensee can release from a site in the form of either airborne or liquid effluents. The licensee has established action levels that would ensure that effluent releases during decommissioning activities are below the levels allowed in 10 CFR part 20. The licensee has committed to implementing a health physics program for the protection of the workers and the environment.

6.0 Conclusions

Based on its review, the NRC staff has concluded that the environmental impacts associated with the proposed action are not significant, and therefore, do not warrant denial of the license amendment request. The NRC staff believes that the proposed action would result in minimal environmental impacts. The staff has determined that the proposed action of decommissioning Site OT-10 to the remediation levels would result in reduced residual contamination levels at Kirtland AFB training sites, enabling release of the areas for unrestricted use and termination of the area from the Air Force Master Materials License, is the appropriate alternative for selection.

7.0 Agencies and Persons Consulted

The NRC staff has prepared this environmental assessment (EA) with input from the State of New Mexico's Office of Cultural Affair, by letter dated April 9, 2002, and the U.S. Fish and Wildlife Service, by letter dated March 28, 2002. By letter dated February 7, 2002, after considering the documentation submitted by the licensee concerning the location of the decommissioning project, the State of New Mexico's Natural Heritage Program determined that there were no records of special interest species affected by the referenced project. In its letter, the State of New Mexico's Office of Cultural Affairs indicated that the proposed action would not adversely affect any historic properties. The U.S. Fish and Wildlife Service, indicated in its letter, that the described action would have no effect on listed species, wetlands, or other important wildlife resources. The staff provided a draft of this EA to the State of New Mexico for review. This EA was revised to reflect the State's input where appropriate. Accordingly, it has been determined that a finding of no significant impact is appropriate.

The Department of the Air Force's request for the proposed action was previously noticed in the Federal Register on 66 FR 33579, on Friday, June 22, 2001, along with a notice of opportunity to request a hearing and an opportunity to provide public comment on the action and its environmental impacts.

The Department of the Air Force's request for the proposed action and other related documents are available for inspection at NRC's Public Electronic Reading Room at http://www.nrc.gov/NRC/ADAMS/index.html. The DP may be found in ADAMS at Accession Numbers ML011560740 and ML023390060; while other documentation may be found at ML022490164 and ML022490363. Any questions with respect to this action should be referred to D. Blair Spitzberg, Ph.D., Chief, Fuel Cycle and Decommissioning Branch, Division of Nuclear Materials Safety, Region IV, U.S. Nuclear Regulatory Commission, 611 Ryan Plaza Drive, Suite 400, Arlington, Texas, 76011-4005. Telephone: (817) 860-8191, fax number (817) 860-8188.

Dated in Arlington, Texas, this 8th day of January, 2003.
For the Nuclear Regulatory Commission.
D. Blair Spitzberg,
Chief, Fuel Cycle Decommissioning Branch, Division of Nuclear Materials Safety, Region IV.

[FR Doc. 03-862 Filed 1-14-03; 8:45 am]

BILLING CODE 7590-01-P